DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before October 5, 2006.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW., Room 4102, Albuquerque, New Mexico. Please refer to the respective permit number for each application when submitting comments. All comments received, including names and addresses, will become part of the official administrative record and may be made available to the public.

FOR FURTHER INFORMATION CONTACT: Chief, Endangered Species Division, (505) 248-6920.

SUPPLEMENTARY INFORMATION:

Permit No. TE-038050

Applicant: Trevor Hare, Tucson, Arizona.

Applicant requests an amendment to an existing permit to conduct presence/absence surveys and enhance propagation for Gila Chub (Gila intermedia) within Arizona.

Permit No. TE-794593

Applicant: Texas State Aquarium, Corpus Christi, Texas.

Applicant requests an amendment to an existing permit to hold northern aplomado falcon (Falco femoralis septentrionalis) for educational displays within Texas.

Permit No. TE-828830

Applicant: Bureau of Land Management-Tucson, Tucson, Arizona.

Applicant requests an amendment to an existing permit to conduct presence/absence surveys and enhance propagation for Gila Chub (Gila intermedia) within Arizona.

Permit No. TE-841909

Applicant: Prescott National Forest, Chino Valley, Arizona.

Applicant requests an amendment to an existing permit to conduct presence/absence surveys and enhance propagation for Gila Chub (Gila intermedia) within Arizona.

Permit No. TE-841359

Applicant: Gila National Forest, Silver City, New Mexico.

Applicant requests an amendment to an existing permit to conduct presence/absence surveys and enhance propagation for Gila Chub (Gila intermedia) within Arizona.

Permit No. TE-122838

Applicant: Jennifer Gumm, Bethlehem, Pennsylvania.

Applicant requests a new permit for research and recovery purposes to conduct presence/absence surveys for Leon Springs pupfish (Cyprinodon bovinus) within Texas.

Permit No. TE-814841

Applicant: Desert Botanical Gardens, Phoenix, Arizona.

Applicant requests an amendment to an existing permit to conduct presence/absence surveys and to collect seed and/or cuttings for Pediocactus bradyi (Brady pincushion cactus) and Pediocactus peeblesianus (Peebles Navajo cactus) within Arizona.

Permit No. TE-122856

Applicant: George Robert Myers, Austin, Texas.

Applicant requests a new permit for research and recovery purposes to conduct presence/absence surveys for Mexican long-nosed bat (Leptonycteris nivalis), lesser long-nosed bat (Leptonycteris curasoae yerbabuenae), Barton Springs salamander (Eurycea sosorum), San Marcos Salamander (Eurycea nana), Texas blind salamander (Typhlomolge rathbuni), and Peck's cave amphipod (Stygobromus pecki) within Texas. Additionally, applicant requests authorization to survey for and collect the following species within Texas: Batrisodes texanus (Coffin Cave mold beetle), Stygoparnus comalensis (Comal Springs dryopid beetle), Heterelmis comalensis (Comal Springs riffle beetle), Batrisodes venyivi (Helotes mold beetle), Cicurina baronia (Robber Baron Cave meshweaver), Cicurina madla (Madla's cave meshweaver), Cicurina venii (Braken Bat Cave meshweaver), Cicurina vespera (Government Canyon Bat Cave meshweaver), Neoleptoneta microps (Government Canyon Bat Cave spider), Neoleptoneta myopica (Tooth Cave spider), Rhadine exilis (ground beetle, no common name), Rhadine infernalis (ground beetle, no common name), Rhadine persephone (Tooth Cave ground beetle), Tartarocreagris texana (Tooth Cave pseudoscorpion), Texamaurops reddelli (Kretschmarr Cave mold beetle), Texella cokendolpheri (Cokendolpher cave harvestman), Texella reddelli (Bee Creek Cave harvestman), and Texella reyesi (Bone Cave harvestman).

Permit No. TE-122857

Applicant: Texas State University, San Marcos, Texas.

Applicant requests a new permit for research and recovery purposes to collect and survey for Heterelmis comalensis (Comal Springs riffle beetle) within Texas.

Permit No. TE-123070

Applicant: Susana Morales, Tucson, Arizona.

Applicant requests a new permit for research and recovery purposes to conduct presence/absence surveys for the following species within Arizona, New Mexico, Oklahoma, and Texas: black-capped vireo (Vireo atricapillus), cactus ferruginous pygmy-owl (Glaucidium brasilianum cactorum), golden-cheeked warbler (Dendroica chrysoparia), interior least tern (Sterna antillarum), lesser long-nosed bat (Leptonycteris curasoae yerbabuenae), northern aplomado falcon (Falco femoralis septentrionalis), piping plover (Charadrius melodus), red-cockaded woodpecker (Picoides borealis), southwestern willow flycatcher (Empidonax traillii extimus), Yuma clapper rail (Rallus longirostris yumanensis), and Houston toad (Bufo houstonensis).

Permit No. TE-009792

Applicant: The Arboretum at Flagstaff, Flagstaff, Arizona.

Applicant requests an amendment to an existing permit to conduct presence/absence surveys and to collect seed and/or cuttings for Astragalus humillimus (Mancos milk-vetch) within New Mexico and Colorado.

Permit No. TE-028605

Applicant: SWCA Environmental Consultants, Flagstaff, Arizona.

Applicant requests an amendment to an existing permit to allow presence/absence surveys for the following species throughout their respective ranges in Arizona, New Mexico, and Texas: black-footed ferret (Mustela nigripes), Hualapai Mexican vole (Microtus mexicanus hualpaiensis), lesser long-nosed bat (Leptonycteris curasoae yerbabuenae), Mexican long-nosed bat (Leptonycteris nivalis), Mount Graham red squirrel (Tamiasciurus hudsonicus grahamensis), Yuma clapper rail (Rallus longirostris yumanensis), Gila chub (Gila intermedia), Sonoran tiger salamander (Ambystoma tigrinum stebbinsi), and Virgin River chub (Gila robusta semidnuda).

Permit No. TE-088197

Applicant: High Mesa Research, Arroyo Seco, New Mexico.

Applicant requests an amendment to an existing permit to conduct presence/absence surveys for southwestern willow flycatcher (Empidonax traillii extimus) within New Mexico.

Permit No. TE-814933

Applicant: Texas Parks and Wildlife Department, Austin, Texas.

Applicant requests an amendment to an existing permit for research and recovery purposes to conduct surveys, mist-net and collect tissue samples for Mexican long-nosed bat (Leptonycteris nivalis) within Big Bend National Park, Texas.

Permit No. TE-127287

Applicant: Loren K. Ammerman, San Angelo, Texas.

Applicant requests a new permit for research and recovery purposes to conduct surveys, mist-net and collect tissue samples for Mexican long-nosed bat (Leptonycteris nivalis) within Big Bend National Park, Texas.

Permit No. TE-039139

Applicant: Bat Conservation International, Austin, Texas.

Applicant requests an amendment to an existing permit for research and recovery purposes to conduct surveys, capture, light tag and zip-line for lesser long-nosed bat (Leptonycteris curasoae yerbabuenae) within Texas.

Permit No. TE-129406

Applicant: Gill Michael Sorg, Las Cruces, New Mexico.

Applicant requests a new permit for research and recovery purposes to conduct presence/absence surveys for northern aplomado falcon (Falco femoralis septentrionalis) within Arizona and New Mexico.

Permit No. TE-006655

Applicant: Logan Simpson Design, Tempe, Arizona.

Applicant requests an amendment to an existing permit to conduct presence/absence surveys and enhance propagation for Gila Chub (Gila intermedia) within Arizona.

Permit No. TE-130663

Applicant: Hermosa Montessori Charter School, Tucson, Arizona.

Applicant requests a new permit for research and recovery purposes to monitor and enhance propogation for Gila topminnow (Poeciliopsis occidentalis) and desert pupfish (Cyprinodon macularius) as well as providing management of holding facilities within Arizona.

Authority: 16 U.S.C. 1531, et seq.

Dated: August 25, 2006.
Christopher T. Jones,
Acting Regional Director, Region 2, Albuquerque, New Mexico.

[FR Doc. 06-7400 Filed 9-1-06 8:45 am]

BILLING CODE 4310-55-P